ENVIRONMENTAL PROTECTION AGENCY

40 CFR Part 300

[FRL-6965-1]

National Oil and Hazardous Substance Pollution Contingency Plan; National Priorities List

AGENCY: Environmental Protection Agency.

ACTION: Proposed notice of intent to delete the Gulf Coast Vacuum Services Superfund Site from the National Priorities List.

SUMMARY: The Environmental Protection Agency (EPA) Region 6 is issuing a proposed notice of intent to delete the Gulf Coast Vacuum Services Superfund Site (Site) located in Vermilion Parish, Louisiana from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). The EPA, with the concurrence of the State of Louisiana, through the Louisiana Department of Environmental Quality (LDEQ), has determined that all appropriate response actions under CERCLA, other than operation and maintenance and five-year reviews, have been completed. However, this deletion does not preclude future actions under Superfund.

In the “Rules and Regulations” section of today's Federal Register, we are publishing a direct final rule of deletion of the Gulf Coast Vacuum Services Superfund Site without prior notice of intent to delete because we view this as a noncontroversial revision and anticipate no adverse comment. We have explained our reasons for this deletion in the preamble to the direct final rule of deletion. If we receive no adverse comment(s) on this action, we will not take further action on this proposed notice of intent to delete. If we receive adverse comment(s), we will withdraw the direct final rule of deletion and it will not take effect. We will, as appropriate, address all public comments in a subsequent final deletion notice based on this proposed notice of intent to delete. We will not institute a second comment period on this notice of intent to delete. Any parties interested in commenting must do so at this time. For additional information, see the direct final rule of deletion which is located in the Rules section of this Federal Register.

DATES: Comments concerning this Site must be received by June 21, 2001.

ADDRESSES: Written comments should be addressed to: Ms. Janetta Coats, Community Involvement Coordinator, U.S. EPA (6SF-PO), 1445 Ross Avenue, Dallas, Texas 75202-2733, (214) 665-7308 or 1-800-533-3508.

FOR FURTHER INFORMATION CONTACT: Mrs. Katrina Coltrain, Remedial Project Manager, U.S. EPA (6SF-LP), 1445 Ross Avenue, Dallas, Texas 75202-2733, (214) 665-8143 or 1-800-533-3508.

SUPPLEMENTARY INFORMATION: For additional information, see the Direct Final Notice of Deletion which is located in the Rules section of this Federal Register.

Information Repositiories: Repositories have been established to provide detailed information concerning this decision at the following addresses: U.S. EPA Region 6 Library, Suite 12D13, 1445 Ross Avenue, Dallas, Texas 75202-2733, (214) 665-6524, Monday through Friday 7:30 a.m. to 4:30 p.m.; Vermilion Parish Library, 200 North Magdalen Square, Abbeville, Louisiana, 75011, (318) 893-2674, Monday and Thursday 9:00 a.m. to 8:00 p.m., Tuesday, Wednesday, and Friday 9:00 a.m. to 5:30 p.m., and Saturday 9:00 a.m. to 1:00 p.m.; and Louisiana Department of Environmental Quality, 7290 Bluebonnet Road, Baton Rouge, Louisiana 70809, (225) 765-0487, Monday through Friday 8:00 a.m. to 4:00 p.m.

List of Subjects in 40 CFR Part 300

Environmental protection, Air pollution control, Chemicals, Hazardous waste, Hazardous substances, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: March 19, 2001.
Lynda F. Carroll,
Acting Regional Administrator, U.S. EPA, Region 6.

[FR Doc. 01-12702 Filed 5-21-01; 8:45 am]

BILLING CODE 6560-50-P